DEPARTMENT OF TRANSPORTATION

Pipeline and Hazardous Materials Safety Administration

[Docket No. PHMSA-2015-0119; Notice No. 15-12]

Hazardous Materials: Safety Advisory—Unauthorized Certification of Compressed Gas Cylinders

AGENCY: Pipeline and Hazardous Materials Safety Administration (PHMSA), DOT.

ACTION: Safety Advisory Notice.

SUMMARY: PHMSA is issuing this safety advisory to notify the public that Liberty Industrial Gases and Welding Supplies Inc., located at 600 Smith Street, Brooklyn, NY 11231, also known as Liberty Industrial Gases and Welding Supply, Inc., marked ICC, DOT-Specification, and DOT-Special Permit high pressure compressed gas cylinders as authorized for hazardous materials transportation without properly testing the cylinders and without authorization to do so.

FOR FURTHER INFORMATION CONTACT: Mr. Patrick Durkin, Hazardous Materials Investigator, Eastern Region, Office of Hazardous Materials Safety, Pipeline and Hazardous Materials Safety Administration, U.S. Department of Transportation, 820 Bear Tavern Road, Suite 306, West Trenton, NJ 08034. Telephone: (609) 989-2256, Fax: (609) 989-2277 or, via email: patrick.durkin@dot.gov.

SUPPLEMENTARY INFORMATION:

I. Public Actions Requested

If ICC, DOT-Specification, or DOT-Special Permit cylinders have been taken to or received from Liberty Industrial Gases and Welding Supplies Inc., from April 1986 through October 2014, these cylinders may not have been properly tested as prescribed by the Hazardous Materials Regulations (HMR). These cylinders should be considered unsafe and not authorized for the filling of hazardous materials unless the cylinder is first properly tested by an individual or company authorized to requalify DOT-Specification and DOT-Special Permit cylinders. Cylinders described in this safety advisory notice that are filled with atmospheric gas should be vented or otherwise safely discharged. Cylinders that are filled with a material other than an atmospheric gas should not be vented but instead should be safely discharged.

Prior to refilling or continued use, the cylinders must be taken to a DOT-authorized cylinder requalifier to ensure their suitability for continued service. A list of authorized requalifiers may be obtained at the following Web site: http://www.phmsa.dot.gov/hazmat/regs/sp-a/approvals/cylinders.

II. Background

A cylinder requalification consisting of a visual inspection and a hydrostatic test, conducted as prescribed in the HMR, specifically 49 CFR § 173.301, is used to verify the structural integrity of a cylinder. If the requalification is not performed in accordance with the regulations, a cylinder with compromised structural integrity may not be detected and may be returned to service when it should be condemned. Extensive property damage, serious personal injury, or death could result from rupture of a cylinder.

Investigators from PHMSA's Office of Hazardous Materials Safety (OHMS) recently conducted a compliance inspection of Liberty Industrial Gases and Welding Supplies Inc. after the company self-reported improper marking of cylinders. As a result of that inspection, PHMSA determined that Liberty Industrial Gases and Welding Supplies Inc. marked an unknown number of high pressure compressed gas cylinders with unauthorized markings and certified an unknown number of high pressure compressed gas cylinders as being properly requalified when it had not conducted the required testing.

The evidence suggests that Liberty Industrial Gases and Welding Supplies Inc. marked Requalifier Identification Number (RIN) A890 on these cylinders. However, Liberty Industrial Gases and Welding Supplies Inc. does not hold a RIN approval authorizing it to requalify cylinders. RIN A890 was issued by PHMSA to another company, Hi Pressure Technologies, located in Newark, NJ, granting it authority to requalify cylinders under the terms of the RIN approval supplied to it. Thus, if the cylinders were serviced by the approved RIN holder, Hi Pressure Technologies, they are not subject to this notice. Only cylinders serviced by Liberty Industrial Gases and Welding Supplies Inc. bearing these markings are affected.

Issued in Washington, DC, on April 17, 2015 under authority delegated in 49 CFR Part 106.
Magdy El-Sibaie,
Associate Administrator for Hazardous Materials Safety, Pipeline and Hazardous Materials Safety Administration.

[FR Doc. 2015-09937 Filed 4-28-15; 8:45 am]

BILLING CODE 4910-60-P